DEPARTMENT OF DEFENSE

Office of the Secretary

The Joint Staff, National Defense University, Board of Visitors Meeting

AGENCY: National Defense University, DoD.

ACTION: Notice of open meeting.

SUMMARY: The President, National Defense University (NDU) has scheduled a meeting of the Board of Visitors (BOV).

DATES: The meeting will be held on September 9th, 2003 from 09:00 to 14:00.

ADDRESSES: The Board will meet in Room 155 Marshall Hall, Building 62, National Defense University, 300 5th Avenue, Fort McNair, Washington, DC 20319-5066.

FOR FURTHER INFORMATION CONTACT: NDU Deputy Chief Operations Officer & Assist Vice President for Administration, Mr. Michael Mann, National Defense University, Fort Lesley J. McNair, Washington, DC 20319-5066. To reserve seating space, interested persons should contact the NDU, POC Mr. Mann, at (202) 685-3903.

SUPPLEMENTARY INFORMATION: The agenda will address current and future teaching research, and outreach issues for the National Defense University and its components. The meeting is open to the public however, space is limited and will therefore be allocated to observers on a first come, first served basis.

POC for outside interests in Mr. Michael Mann, BOV Executive Secretary, at mannm@ndu.edu and/or (202) 685-3903.

Dated: July 31, 2003.
Patricia L. Toppings,
Alternate OSD Federal Register Liaison Officer, Department of Defense.

[FR Doc. 03-20442 Filed 8-11-03; 8:45 am]

BILLING CODE 5001-08-M